FEDERAL ELECTION COMMISSION

[NOTICE 2026-01]

Price Index Adjustments for Contribution and Expenditure Limitations and Lobbyist Bundling Disclosure Threshold

AGENCY: Federal Election Commission.

ACTION: Notice of Adjustments to Coordinated Party Expenditure Limits and Lobbyist Bundling Disclosure Threshold.

SUMMARY: As mandated by provisions of the Federal Election Campaign Act (“the Act”), the Federal Election Commission (“the Commission”) is adjusting the coordinated party expenditure limits ¹ and the lobbyist bundling disclosure threshold set forth in the Act, to index the amounts for inflation. Additional details appear in the supplemental information that follows.

¹ The United States Supreme Court is currently considering the constitutionality of the coordinated party expenditure limits in the case NRSC v. FEC, No. 24-621 (U.S. oral argument Dec. 9, 2025). Unless and until the Supreme Court decides otherwise, however, the coordinated expenditure limits remain in force and thus this notice states what they are for 2026.

DATES: The new limitations at 52 U.S.C. 30104(i)(3)(A) and 30116(d) apply beginning on January 1, 2026.

ADDRESSES: 1050 First Street NE, Washington, DC 20463.

FOR FURTHER INFORMATION CONTACT: Mr. Gregory J. Scott, Information Division, (202) 694-1100 or (800) 424-9530, info@fec.gov.

SUPPLEMENTARY INFORMATION: Under the Federal Election Campaign Act, 52 U.S.C. 30101-46, the coordinated party expenditure limits (52 U.S.C. 30116(d)(2)-(3)) and the disclosure threshold for contributions bundled by lobbyists (52 U.S.C. 30104(i)(3)(A)) are adjusted periodically to reflect changes in the consumer price index. See 52 U.S.C. 30104(i)(3)(B), 30116(c)(1)(B); 11 CFR 104.22(g), 109.32(a)(2), (b)(3), 110.17(a), (f). The Commission is publishing this notice to announce the adjusted limits and disclosure threshold.

Coordinated Party Expenditure Limits for 2026

Under 52 U.S.C. 30116(c), the Commission must adjust the expenditure limitations established by 52 U.S.C. 30116(d) (the limits on expenditures by national party committees, state party committees, or their subordinate committees in connection with the general election campaign of candidates for Federal office) annually to account for inflation. This expenditure limitation is increased by the percentage difference between the price index, as certified to the Commission by the Secretary of Labor, for the 12 months preceding the beginning of the calendar year and the price index for the base period (calendar year 1974). 52 U.S.C. 30116(c)(1)(B)(i), (2)(B)(i).

1. Expenditure Limitation for House of Representatives in States With More Than One Congressional District

Both the national and state party committees have an expenditure limitation for each general election held to fill a seat in the House of Representatives in states with more than one congressional district. See 52 U.S.C. 30116(d)(3)(B). This limitation also applies to the District of Columbia and territories that elect individuals to the office of Delegate or Resident Commissioner.² Id. The formula used to calculate the expenditure limitation in such states and territories multiplies the base figure of $10,000 by the difference in the price index (6.52944), rounding to the nearest $100. See 52 U.S.C. 30116(c)(1)(B), (d)(3)(B); 11 CFR 109.32(b), 110.17. Based upon this formula, the expenditure limitation for 2026 general elections for House candidates in these states, districts, and territories is $65,300.

² Currently, these are Puerto Rico, American Samoa, Guam, the United States Virgin Islands and the Northern Mariana Islands. See https://www.house.gov/representatives.

2. Expenditure Limitation for Senate and for House of Representatives in States With Only One Congressional District

Both the national and state party committees have an expenditure limitation for a general election held to fill a seat in the Senate or in the House of Representatives in states with only one congressional district. See 52 U.S.C. 30116(d)(3)(A). The formula used to calculate this expenditure limitation considers not only the price index but also the voting age population (“VAP”) of the state. Id. The VAP figures used to calculate the expenditure limitations were certified by the U.S. Census Bureau. The VAP of each state is also published annually in the Federal Register by the U.S. Department of Commerce. 11 CFR 110.18. The general election expenditure limitation is the greater of: The base figure ($20,000) multiplied by the difference in the price index 6.52944 (which rounds to $130,600); or $0.02 multiplied by the VAP of the state, multiplied by 6.52944. See 52 U.S.C. 30116(c)(1)(B), (d)(3)(A); 11 CFR 109.32(b), 110.17. Amounts are rounded to the nearest $100. 52 U.S.C. 30116(c)(1)(B)(iii); 11 CFR 109.32(b)(3), 110.17(c). The chart below provides the state-by-state breakdown of the 2026 general election expenditure limitations for Senate elections. The expenditure limitation for 2026 House elections in states with only one congressional district ³ is $130,600.

³ Currently, these states are: Alaska, Delaware, Montana, North Dakota, Rhode Island, South Dakota, Vermont and Wyoming. See https://www.house.gov/representatives/.

⁴ This expenditure limit does not apply to the District of Columbia, Puerto Rico, American Samoa, Guam, the United States Virgin Islands, and the Northern Mariana Islands because those jurisdictions do not elect Senators. See 52 U.S.C. 30116(d)(3)(A); 11 CFR 109.32(b)(2)(i).

Senate General Election Coordinated Expenditure Limits—2026 Elections ⁴
State | Voting age population (VAP) | VAP x .02 x the price index (6.52944) | Senate expenditure limit (the greater of the amount in column 3 or $130,600)
Alabama | 4,075,161 | $532,200 | $532,200
Alaska | 565,570 | 73,900 | 130,600
Arizona | 6,026,503 | 787,000 | 787,000
Arkansas | 2,416,023 | 315,500 | 315,500
California | 31,180,511 | 4,071,800 | 4,071,800
Colorado | 4,792,358 | 625,800 | 625,800
Connecticut | 2,970,201 | 387,900 | 387,900
Delaware | 849,963 | 111,000 | 130,600
Florida | 19,019,796 | 2,483,800 | 2,483,800
Georgia | 8,796,778 | 1,148,800 | 1,148,800
Hawaii | 1,151,103 | 150,300 | 150,300
Idaho | 1,557,631 | 203,400 | 203,400
Illinois | 10,100,540 | 1,319,000 | 1,319,000
Indiana | 5,397,168 | 704,800 | 704,800
Iowa | 2,518,739 | 328,900 | 328,900
Kansas | 2,294,452 | 299,600 | 299,600
Kentucky | 3,590,081 | 468,800 | 468,800
Louisiana | 3,568,234 | 466,000 | 466,000
Maine | 1,170,629 | 152,900 | 152,900
Maryland | 4,928,480 | 643,600 | 643,600
Massachusetts | 5,826,510 | 760,900 | 760,900
Michigan | 8,065,114 | 1,053,200 | 1,053,200
Minnesota | 4,547,092 | 593,800 | 593,800
Mississippi | 2,295,720 | 299,800 | 299,800
Missouri | 4,910,413 | 641,200 | 641,200
Montana | 913,041 | 119,200 | 130,600
Nebraska | 1,538,757 | 200,900 | 200,900
Nevada | 2,603,663 | 340,000 | 340,000
New Hampshire | 1,170,277 | 152,800 | 152,800
New Jersey | 7,557,289 | 986,900 | 986,900
New Mexico | 1,686,046 | 220,200 | 220,200
New York | 16,097,036 | 2,102,100 | 2,102,100
North Carolina | 8,838,026 | 1,154,100 | 1,154,100
North Dakota | 616,388 | 80,500 | 130,600
Ohio | 9,368,603 | 1,223,400 | 1,223,400
Oklahoma | 3,165,587 | 413,400 | 413,400
Oregon | 3,461,772 | 452,100 | 452,100
Pennsylvania | 10,488,801 | 1,369,700 | 1,369,700
Rhode Island | 916,867 | 119,700 | 130,600
South Carolina | 4,421,834 | 577,400 | 577,400
South Dakota | 714,952 | 93,400 | 130,600
Tennessee | 5,739,349 | 749,500 | 749,500
Texas | 24,109,307 | 3,148,400 | 3,148,400
Utah | 2,616,637 | 341,700 | 341,700
Vermont | 535,049 | 69,900 | 130,600
Virginia | 7,019,802 | 916,700 | 916,700
Washington | 6,366,184 | 831,400 | 831,400
West Virginia | 1,421,798 | 185,700 | 185,700
Wisconsin | 4,750,680 | 620,400 | 620,400
Wyoming | 461,419 | 60,300 | 130,600

Lobbyist Bundling Disclosure Threshold for 2026

The Act requires certain political committees to disclose contributions bundled by lobbyists/registrants and lobbyist/registrant political action committees once the contributions exceed a specified threshold amount. 52 U.S.C. 30104(i)(1), (i)(3)(A). The Commission must adjust this threshold amount annually to account for inflation. 52 U.S.C. 30104(i)(3)(B). The disclosure threshold is increased by multiplying the $15,000 statutory disclosure threshold by 1.59695, the difference between the price index, as certified to the Commission by the Secretary of Labor, for the 12 months preceding the beginning of the calendar year and the price index for the base period (calendar year 2006). See 52 U.S.C. 30104(i)(3), 30116(c)(1)(B); 11 CFR 104.22(g). The resulting amount is rounded to the nearest multiple of $100. 52 U.S.C. 30104(i)(3)(B), 30116(c)(1)(B)(iii); 11 CFR 104.22(g)(4). Based upon this formula ($15,000 × 1.59695), the lobbyist bundling disclosure threshold for calendar year 2026 is $24,000.

Dated: February 26, 2026.
On behalf of the Commission,
Shana M. Broussard,
Chair, Federal Election Commission.

[FR Doc. 2026-04137 Filed 3-2-26; 8:45 am]

BILLING CODE 6715-01-P